DEPARTMENT OF AGRICULTURE

Submission for OMB Review; Comment Request

October 4, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Summer Food Service Program Claim for Reimbursement.

OMB Control Number: 0584-0041.

Summary of Collection: The Summer Food Service Program Claim for Reimbursement Form is used to collect meal and cost data from sponsors to determine the reimbursement entitlement for meals served. The form is sent to the Food and Nutrition Service's (FNS) Regional Offices where it is entered into a computerized payment system. The payment system computes earnings to date and the number of meals to date and generates payments for the amount of earnings in excess of prior advance and claim payments. To fulfill the earned reimbursement requirements set forth in the Summer Food Service Program Regulations issued by the Secretary of Agriculture (7 CFR 225.9), the meal and cost data must be collected on the FNS-143, Claim for Reimbursement form.

Need and Use of the Information: FNS will collect information to manage, plan, evaluate, and account for government resources. The reports and records are required to ensure the proper and judicious use of public funds. If the information is not collected on the claim form, the sponsor could not receive reimbursement.

Description of Respondents: Not-for-profit institutions.

Number of Respondents: 123.

Frequency of Responses: Recordkeeping; Reporting: Other (5 per year).

Total Burden Hours: 423.

Ruth Brown,
Departmental Information Collection Clearance Officer.

[FR Doc. E6-16724 Filed 10-10-06; 8:45 am]

BILLING CODE 3410-30-P